DEPARTMENT OF THE TREASURY

Senior Executive Service Departmental Performance Review Board

AGENCY: Treasury Department.

ACTION: Notice of members of the Departmental Performance Review Board (PRB).

SUMMARY: Pursuant to 5 U.S.C. 4314(c)(4), this notice announces the appointment of members of the Departmental PRB. The purpose of this PRB is to review and make recommendations concerning proposed performance appraisals, ratings, bonuses and other appropriate personnel actions for incumbents of SES positions for which the Secretary or Deputy Secretary is the appointing authority. These positions include SES bureau heads, deputy bureau heads and certain other positions. The Board will perform PRB functions for other key bureau positions if requested.

Composition of Departmental PRB: The Board shall consist of at least three members. In the case of an appraisal of a career appointee, more than half the members shall consist of career appointees. The names and titles of the PRB members are as follows:

Wayne A. Abernathy, Assistant Secretary (Financial Institutions); Rebecca A. Contreras, Deputy Assistant Secretary (Human Resources) and Chief Human Capital Officer; Jesus H. Delgado-Jenkins, Deputy Assistant Secretary (Management and Budget); John M. Duncan, Assistant Secretary (Legislative Affairs); James H. Fall III, Deputy Assistant Secretary (Technical Assistance Policy); Reese H. Fuller, Advanced Counterfeit Deterrence Program Director (Domestic Finance); Geraldine A. Gerardi, Director for Business Taxation; Donald V. Hammond, Fiscal Assistant Secretary; Ira L. Hobbs, Chief Information Officer; Gregory F. Jenner, Deputy Assistant Secretary (Tax Policy); Jeffrey F. Kupfer, Deputy Chief of Staff; Robert Nichols, Assistant Secretary (Public Affairs); Patricia J. Pointer, Deputy for Human Resources; Randal K. Quarles, Assistant Secretary (International Affairs); Brian C. Roseboro, Under Secretary (Domestic Finance); Mary Beth Shaw, Executive for DC Pensions Policy and Oversight; Christopher A. Smith, Chief of Staff; Juan C. Zarate, Assistant Secretary (Terrorist Financing); Marla A. Freedman, Assistant Inspector General for Audit, Office; William H. Pugh, Deputy Assistant Inspector General for Audit (Financial Management); Dennis S. Schindel, Deputy Inspector General; Arthur J. Libertucci, Administrator, Tax and Trade Bureau; John J. Manfreda, Deputy Administrator, Tax and Trade Bureau; Marcia H. Coates, Senior Advisor, United States Mint; Henrietta H. Fore, Director, United States Mint; Jerry W. Horton, Chief Information Officer, United States Mint; David A. Lebryk, Deputy Director, United States Mint; Nancy Coto Fleetwood, Assistant Commissioner, Information Resources, Financial Management Service; Richard L. Gregg, Commissioner, Financial Management Service; Scott Johnson, Assistant Commissioner, Management (Chief Financial Officer), Financial Management Service; Kerry Lanham, Assistant Commissioner, Agency Services, Financial Management Service; Kenneth R. Papaj, Deputy Commissioner, Financial Management Service; Gregory D. Carper, Associate Director (Chief Financial Officer), Bureau of Engraving and Printing; Ronald W. Falter, Associate Director (Chief Information Officer), Bureau of Engraving and Printing; Thomas A. Ferguson, Director, Bureau of Engraving and Printing; Joel C. Taub, Associate Director (Management), Bureau of Engraving and Printing; Beverly O. Babers, Chief Human Capital Officer, Internal Revenue Service; Helen Bolton, Director, Management Services, Modernization and Information Technology Services, Internal Revenue Service; John M. Dalrymple, Deputy Commissioner for Operations Support, Internal Revenue Service; Cecil T. Hua, Director, Systems Engineering and Integration, Business Modernization and Information Technology Services, Internal Revenue Service; Henry O. Lamar, Commissioner, Wage and Investment Division, Internal Revenue Service; Deborah M. Nolan, Commissioner, Large and Mid-Sized Business Division, Internal Revenue Service; Kathy K. Petronchak, Director, Pre-Filing and Technical Guidance, Large and Mid-Sized Business Division, Internal Revenue Service; Evelyn A. Petschek, Chief of Staff, Internal Revenue Service; Estelle R. Tunley, Deputy Director, Submission Processing, Wage and Investment Division, Internal Revenue Service; Anne M. Meister, Deputy Commissioner, Bureau of the Public Debt; Frederick Van Zeck, Commissioner, Bureau of the Public Debt; James W. Carroll, Deputy General Counsel; Roberta K. McInerney, Assistant General Counsel (Banking & Finance); Kenneth R. Schmalzbach, Assistant General Counsel (General Law & Ethics); Carol A. Campbell, Division Counsel, Wage and Investment; Edward L. Patton, Deputy Associate Chief Counsel; William F. Baity, Deputy Director, Financial Crimes Enforcement Network. Additional Member: William J. Fox, Director, Financial Crimes Enforcement Network.

DATES: Membership is effective on the date of this notice.

FOR FURTHER INFORMATION CONTACT: Dennis Cannon, Department of the Treasury, Director, Human Resources Strategy and Solutions, 1500 Pennsylvania Avenue, NW., Attention: Suite 12105, 1750 Pennsylvania Avenue, NW., Washington, DC 20220, telephone: (202) 622-1109.

This notice does not meet the Department's criteria for significant regulations.

Dennis Cannon,
Director, Human Resources Strategy and Solutions.

[FR Doc. 04-22429 Filed 10-5-04; 8:45 am]

BILLING CODE 4811-16-M